DEPARTMENT OF HOUSING AND URBAN DEVELOPMENT

[Docket No. FR-5562-D-02]

Order of Succession for the Office of the Chief Human Capital Officer

AGENCY: Office of the Chief Human Capital Officer, HUD.

ACTION: Notice of order of succession.

SUMMARY: In this notice, the Chief Human Capital Officer for the Department of Housing and Urban Development designates the Order of Succession for the Office of the Chief Human Capital Officer.

DATES: Effective Date: October 20, 2011.

FOR FURTHER INFORMATION CONTACT: Lynette Warren, Office of the Chief Human Capital Officer, Department of Housing and Urban Development, 451 7th Street SW., Room 2182, Washington DC 20410; telephone number (202) 402-4169 (this is not a toll-free number). Persons with hearing or speech impairments may call HUD's toll-free Federal Relay Service at (800) 877-8339.

SUPPLEMENTARY INFORMATION: The Chief Human Capital Officer for the Department of Housing and Urban Development is issuing this Order of Succession of officials authorized to perform the functions and duties of the Office of the Chief Human Capital Officer when, by reason of absence, disability, or vacancy in office, the Chief Human Capital Officer is not available to exercise the powers or perform the duties of the office. This Order of Succession is subject to the provisions of the Federal Vacancies Reform Act of 1998 (5 U.S.C. 3345-3349d).

Accordingly, the Chief Human Capital Officer designates the following Order of Succession:

Section A. Order of Succession

Subject to the provisions of the Federal Vacancies Reform Act of 1998, during any period when, by reason of absence, disability, or vacancy in office, the Chief Human Capital Officer for the Department of Housing and Urban Development is not available to exercise the powers or perform the duties of the Chief Human Capital Officer, the following officials within the Office of the Chief Human Capital Officer are hereby designated to exercise the powers and perform the duties of the office:

1. Deputy Chief Human Capital Officer;

2. Director, Office of Human Capital Services;

3. Director, Office of Support Services; and

4. Director, Office of Human Capital Field Support.

These officials shall perform the functions and duties of the office in the order specified herein, and no official shall serve unless all the other officials, whose position titles precede his/hers in this order, are unable to act by reason of absence, disability, or vacancy in office.

Authority: Section 7(d), Department of Housing and Urban Development Act, 42 U.S.C. 3535(d).

Dated: October 20, 2011.
Karen Newton Cole,
Acting Chief Human Capital Officer.

[FR Doc. 2011-28674 Filed 11-4-11; 8:45 am]

BILLING CODE 4210-67-P